FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012072-002.

Title: NYK/Yang Ming Americas Express North-South Service Slot Charter Agreement.

Parties: Nippon Yusen Kaisha; and Yang Ming (America) Corp.

Filing Party: Eric C. Jeffrey, Esq.; Nixon Peabody LLP; 401 9th Street NW., Suite 900; Washington, DC 20004.

Synopsis: The amendment changes the name of the agreement, revises the geographic scope to broaden the port ranges in the U.S. and South America, clarifies the amount of space provided to Yang Ming, updates the termination provisions, and makes miscellaneous clarifying changes.

Dated: October 31, 2014.
By Order of the Federal Maritime Commission.
Rachel E. Dickon,
Assistant Secretary.

[FR Doc. 2014-26255 Filed 11-4-14; 8:45 am]

BILLING CODE 6730-01-P